DEPARTMENT OF THE INTERIOR

Bureau of Land Management

[LLORL00000-L10200000.MJ0000.LXSS021H0000; HAG 09-0230]

Notice of Meeting, Southeast Oregon Resource Advisory Council (OR)

AGENCY: Bureau of Land Management, Interior.

ACTION: Notice of Public Meeting.

SUMMARY: Pursuant to the Federal Land Policy and Management Act and the Federal Advisory Committee Act, the U.S. Department of the Interior, Bureau of Land Management (BLM) Southeast Oregon Resource Advisory Council (SEORAC) will meet as indicated below:

DATES: The meeting will begin at 9:30 a.m. on August 13, 2009, and at 8 a.m. on August 14, 2009.

ADDRESSES: The Council will meet at the Holiday Inn Express, 212 SE 10th Street, Ontario, Oregon.

FOR FURTHER INFORMATION CONTACT: Scott Stoffel, Public Affairs Specialist, 1301 South G Street, Lakeview, OR 97630, (541) 947-6237.

SUPPLEMENTARY INFORMATION: The SEORAC advises the Secretary of the Interior, through the BLM, on a variety of planning and management issues for public lands in the Lakeview, Burns and Vale BLM Districts and the Fremont-Winema and Malheur National Forests. Planned agenda items include: A tour of current Vale District energy, recreation, sagebrush, sage-grouse and wilderness characteristics projects; updates on BLM and U.S. Forest Service American Recovery and Reinvestment Act projects; an overview of BLM's sage-grouse and sagebrush strategies; a discussion on the proposed action for the Fremont-Winema National Forests' Travel Management Plan; a summary of federal energy team and project efforts; and a briefing on the current status of the sage-grouse listing decision. Other agenda topics include: Manager updates on current land management issues, interest area briefings by Council members, reports from the Chairs of active subgroups, development of agenda items for the next meeting, and any other matters that may reasonably come before the SEORAC.

The public is welcome to attend all portions of the meeting and may make oral comments to the Council at 8:15 a.m. on August 14, 2009. Those who verbally address the SEORAC are asked to provide a written statement of their comments or presentation. Unless otherwise approved by the SEORAC Chair, the public comment period will last no longer than 30 minutes, and each speaker may address the SEORAC for a maximum of five minutes. The meeting agenda will be posted at http://www.blm.gov/or/rac/seorrac-minutes.php when available. If reasonable accommodation is required, please contact the BLM's Lakeview District at (541) 947-2177 as soon as possible.

Dated: July 9, 2009.
Carol A. Benkosky,
District Manager, Lakeview District Office.

[FR Doc. E9-16967 Filed 7-16-09; 8:45 am]

BILLING CODE 4310-33-P